DEPARTMENT OF TRANSPORTATION

Maritime Administration

Secretarial Extension of Authority: Marine War Risk Insurance Under Title XII of the Merchant Marine Act, 1936

On December 12, 2001, President George W. Bush approved the provision of vessel war risk insurance by memorandum to the Secretary of State and the Secretary of Transportation. The approval was for the provision by the Secretary of Transportation of insurance or reinsurance of vessels (including cargoes and crews) entering the Middle East region against loss or damage by war risks in the manner and to the extent approved in Title XII of the Act, 46 U.S.C. App. 128. 1281, et seq.

The President delegated to the Secretary of Transportation the authority vested in him by section 1202 of the Act to approve the provision of insurance or reinsurance after the expiration of six months and to bring this approval to the attention of all operators and to arrange for its publication in the Federal Register.

On August 23, 2002, the Secretary of Transportation approved the extension of the authority to provide such insurance for another six-month period, beginning June 13, 2002.

FOR FURTHER INFORMATION CONTACT: Joe Strassburg, Chief, Division of Marine Insurance, Maritime Administration, 400 Seventh St., SW., Washington, DC 20590, Phone Nunber (202) 366-4156.

By Order of the Maritime Administration.
Dated: October 9, 2002.
Joe C. Richard,
Secretary, Maritime Administration.

[FR Doc. 02-26241 Filed 10-15-02; 8:45 am]

BILLING CODE 4910-81-M